DEPARTMENT OF THE INTERIOR

Bureau of Land Management

Public Land Order No. 7883; San Diego Project 4, San Diego County, CA

AGENCY: Bureau of Land Management, Interior.

ACTION: Public Land Order.

SUMMARY: This Order withdraws, subject to valid existing rights, approximately 44 acres of Federal lands from settlement, sale, location, and entry under the general land laws, including the United States mining laws, mineral leasing laws, and geothermal leasing laws, for a period of 3 years for use by the Department of the Army for border security purposes. This withdrawal also transfers administrative jurisdiction of the lands to the Department of the Army.

DATES: This PLO takes effect on September 18, 2019.

FOR FURTHER INFORMATION CONTACT: Joseph Stout, Acting State Director California, telephone: 916-978-4600, email: j2stout@blm.gov.

Persons who use a telecommunications device for the deaf (TDD) may call the Federal Relay Service (FRS) at 1-800-877-8339 to contact Mr. Stout. The FRS is available 24 hours a day, 7 days a week, to leave a message or question. You will receive a reply during normal business hours.

SUPPLEMENTARY INFORMATION:

Order

By virtue of the authority vested in the Secretary of the Interior by Section 204 of the Federal Land Policy and Management Act of 1976, 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Army for border security purposes.

A strip of land of the uniform width of 200 feet lying contiguous to and parallel with the international border between the United States and Mexico, located in the County of San Diego, State of California, and situate in the following described locations:

San Bernardino Meridian, California

T. 18 S, R. 1 E,

Sec. 34;

Sec. 35.

The areas described above aggregate approximately 44 acres of Federal lands in San Diego County.

2. This withdrawal will expire 3 years from the effective date of this Order, unless it is extended in accordance with subsections (c)(1) or (d), whichever is applicable, and (b)(1) of Section 204 of the Federal Land Policy and Management Act of 1976, 43 U.S.C. 1714.

Dated: September 18, 2019.
David L. Bernhardt,
Secretary of the Interior.

[FR Doc. 2019-20720 Filed 9-23-19; 8:45 am]

BILLING CODE 3720-58-P